ENVIRONMENTAL PROTECTION AGENCY

[FRL-7603-8]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1381.07; Recordkeeping and Reporting Requirements for Solid Waste Disposal Facilities and Practices; in 40 CFR part 258; OMB Number 2050-0122; was approved 11/24/2003; expires 11/30/2006.

EPA ICR No. 0029.08; NPDES Modification and Variance Requests; in 40 CFR 122.62-122.64, 40 CFR 122.21(m)(1-2 & 4-6), 40 CFR 122.21(n)(1 & 3), 40 CFR 122.41(l)(1, 3, 8), 40 CFR 501.15(b)(8, 12), 40 CFR 122.24(l)(2, 8), 40 CFR 122.42(a)(1-2), 40 CFR 122.47(b)(4), 40 CFR 122.41(h), 40 CFR 124.53-124.54, 40 CFR 501.15(c)(2), 40 CFR 125.30 40 CFR 122.29(b); was approved 11/19/2003; OMB Number 2040-0068; expires 11/30/2006.

EPA ICR No. 1500.05; National Estuary Program; in 40 CFR 36.9000-36.9070; was approved 11/19/2003; OMB Number 2040-0138; expires 11/30/2006.

EPA ICR No. 0168.08; NPDES and Sewage Sludge Management State Programs; in 40 CFR part 122, 40 CFR 123.21-123.24, 40 CFR 123.26-123.29, 40 CFR 123.43-123.45, 40 CFR 123.62-123.64, 40 CFR 124.53-124.54, 40 CFR part 125, 40 CFR part 501, 40 CFR 123.26(e), 40 CFR 123.26(e)(5), 40 CFR 123.41(a), 40 CFR 501.21, 40 CFR 501.34, 40 CFR 501.11, 40 CFR 501.16, 40 CFR 123.26(b)(2)&(3), 40 CFR 124.53 & 124.54, 40 CFR 123.43 & 123.44, 40 CFR 501.14, 40 CFR 123.45, 40 CFR 501.21, 40 CFR 123.21, 40 CFR 123.64, 40 CFR 123.26(b)(1)&(2)&(3), 40 CFR 123.43 & 123.44(i); was approved 11/19/2003; OMB Number 2040-0057; expires 11/30/2006.

EPA ICR No. 0827.06; Construction Grants Program; in 40 CFR 35.2015, 35.2025, 35.2034, 35.2040, 35.2105, 35.2106, 35.2107, 35.2110, 35.2114, 35.2118, 35.2120, 35.2127, 35.2130, 35.2140, 35.2211, 35.2212, 35.2215, 35.2216, and 35.2218; was approved 11/18/2003; OMB Number 2040-0027; expires 11/30/2006.

EPA ICR No. 1803.04; Drinking Water State Revolving Fund Program; in 40 CFR part 35, subpart L; was approved 11/17/2003; OMB Number 2040-0185; expires 11/30/2006.

EPA ICR No. 1654.04; Reporting Requirements under EPA's Water Alliances for Voluntary Efficiency (WAVE) Program; was approved 11/14/2003; OMB Number 2040-0164; expires 11/30/2006.

EPA ICR No. 1814.03; National Health Protection Survey of Beaches; was approved 11/14/2003; OMB Number 2040-0189; expires 11/30/2006.

EPA ICR No. 0220.09; Clean Water Act Section 404 State-Assumed Programs; in 40 CFR 233.10-233.52; was approved 11/14/2003; OMB Number 2040-0168; expires 11/30/2006.

EPA ICR No. 0909.07; Construction Grants Delegation to States; in 40 CFR 35.3010 and 35.3030 was approved 11/14/2003; OMB Number 2040-0095; expires 11/30/2006.

Disapproved

EPA No. 2087.01; Concentrated Aquatic Animal Production Effluent Guidelines (Proposed Rule); was disapproved by OMB 11/14/2003.

EPA No. 2097.01; National Primary Drinking Water Regulation; Long Term 2 Enhanced Surface Water Treatment Rule (Proposed Rule); was disapproved by OMB 11/18/2003.

EPA No. 2068.01; Stage 2 Disinfectants and Disinfection Byproducts Rule (Proposed Rule); was disapproved by OMB on 11/18/2003.

Dated: December 17, 2003.
Doreen Sterling,
Acting Director, Collection Strategies Division.

[FR Doc. 04-85 Filed 1-2-04; 8:45 am]

BILLING CODE 6560-50-U